DEPARTMENT OF COMMERCE

International Trade Administration

Survey of International Air Travelers

ACTION: Proposed collection; comment request.

SUMMARY: The Department of Commerce, as part of its continuing effort to reduce paperwork and respondent burden, invites the general public and other Federal agencies to take this opportunity to comment on the continuing information collections, as required by the Paperwork Reduction Act of 1995, Public Law 104-13 (44 U.S.C. 3506(c) (2)(A)).

DATES: Written comments must be submitted on or before January 14, 2002.

ADDRESSES: Direct all written comments to Madeleine Clayton, Departmental Paperwork Clearance Officer, (202) 482-3129, Department of Commerce, Room 6086, 14th & Constitution Avenue, NW., Washington, DC 20230 (or via the Internet at Mclayton@doc.gov.).

FOR FURTHER INFORMATION CONTACT: Requests for additional information or copies of the information collection instrument and instructions should be directed to: Ron Erdmann, ITA's Tourism Industries, Room 7025, 1401 Constitution Ave, NW., Washington, DC 20230; phone: (202) 482-4554, and fax: (202) 482-2887. E-Mail: ron—erdmann@ita.doc.gov To learn more about the this research program, visit TI's Web site at: http://www.tinet.ita.doc.gov/research/programs/ifs/index.html

SUPPLEMENTARY INFORMATION:

I. Abstract

The International Trade Administration, Tourism Industries office “Survey of International Air Travelers” is the only source for estimating international travel and passenger fare exports and imports for this country. This program also supports the U.S. Department of Commerce, Bureau of Economic Analysis mandate to collect and report this type of information which is used to calculate GDP for the United States. This project also serves as the core data source for Tourism Industries. Numerous reports and analyses are developed to assist businesses in increasing U.S. exports in international travel. An economic impact of international travel on state economies, visitation estimates, traveler profiles, presentations and reports are generated by Tourism Industries to help the federal government agencies and the travel industry better understand the international market. It is also a service that the U.S. Department of Commerce provides to travel industry businesses seeking to increase international travel and passenger fare exports for the country, as well as U.S. outbound travel. It provides the only comparable estimates of nonresident visitation to the states and cities within the U.S., as well as U.S. resident travel abroad. Traveler characteristics data are also collected to help travel related businesses better understand the international travelers to and from the U.S. so they can develop targeted marketing and other planning related materials.

II. Method of Collection

The collection is on U.S. and foreign flag airlines who voluntarily agree to allow us to survey their passengers on departing flights from the U.S. Additional surveys are also collected at U.S. departure airports and selected U.S. sites as cooperation is obtained from the travel industry.

III. Data

OMB Number: 0625-0227.

Form Number: N/A.

Type of Review: Regular submission.

Affected Public: International travelers departing the United States 18 years or older which includes U.S. and non-U.S. residents for all countries except Canada.

Estimated Number of Respondents: 165,600.

Estimated Time per Response: 15 minutes.

Estimated Total Annual Burden Hours: 24,840 hours.

Estimated Total Annual Cost: This is a $1.5 million research program. The government only funds $690,00 of this program. The remaining funds are obtained from inkind contributions of the airlines, airports and other travel industry partners as well as the sale of this data to the public. Respondents will not need to purchase equipment or materials to respond to this collection.

IV. Requested for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 8, 2001.
Madeleine Clayton,
Departmental Forms Clearance Officer, Office of the Chief Information Officer.

[FR Doc. 01-28530 Filed 11-13-01; 8:45 am]

BILLING CODE 3510-DR-P